DEPARTMENT OF THE INTERIOR

Fish and Wildlife Service

[FWS-R9-IA-2011-N264; FXGO16710900000P5-123-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before January 17, 2012.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government” and “The President's Memorandum for the Heads of Executive Departments and Agencies of January 21, 2009—Transparency and Open Government” (74 FR 4685; January 26, 2009), which call on all Federal agencies to promote openness and transparency in Government by disclosing information to the public, we invite public comment on these permit applications before final action is taken.

III. Permit Applications

A. Endangered Species

Applicant: Jacksonville Zoological Society, Jacksonville, FL; PRT-59935A

The applicant requests a permit to export three live, captive-born bonobos (Pan paniscus) to Germany, for the purpose of enhancement of the survival of the species.

Applicant: Turtle Survival Alliance Foundation, Fort Worth, TX; PRT-58695A

The applicant requests a permit to import from Hong Kong up to 20 angulated tortoises (Astrochelys yniphora) that were previously illegally removed from the wild in Madagascar. The import would be for the purpose of enhancement of the survival of the species.

Applicant: University of Georgia Research Foundation, Inc., Athens, GA; PRT-57273A

The applicant requests a permit to import biological samples from wild female leatherback sea turtles (Dermochelys coriacea) in Trinidad for the purpose of scientific research.

Applicant: Phoenix Herpetological Society, Scottsdale, AZ; PRT-57939A

The applicant requests a permit to import two (one male and one female) African slender snouted crocodiles (Crocodylus cataphractus) that were captive-hatched in South Africa. The import would be for the purpose of enhancement of the survival of the species.

Applicant: David Marovitz, University of Michigan, Ann Arbor, MI; PRT-59019A

The applicant requests a permit to acquire DNA cell cultures from gorilla (Gorilla gorilla) and Sumatran orangutan (Pongo abelii) through interstate commerce from Coriell Cell Repository, Camden, NJ, for the purpose of scientific research.

Applicant: Theodore Papenfuss, University of California, Berkeley, CA; PRT-59290A

The applicant requests a permit to import biological specimens of Cat Island slider turtle (Trachemys terrapin) and Inagua Island slider turtle (T. stejnegeri malonei) from wild turtles in the Bahamas for the purpose of scientific research.

Brenda Tapia,
Program Analyst/Data Administrator, Branch of Permits, Division of Management Authority.

[FR Doc. 2011-32208 Filed 12-15-11; 8:45 am]

BILLING CODE 4310-55-P